ENVIRONMENTAL PROTECTION AGENCY

[FRL-6997-3]

Agency Information Collection Activities: Proposed Collection; Comment Request; Reporting and Recordkeeping Activities Associated With EPA's PFC Emission Reduction Partnership for the Semiconductor Industry

AGENCY: Environmental Protection Agency (EPA).

ACTION: Notice.

SUMMARY: In compliance with the Paperwork Reduction Act (44 U.S.C. 3501 et seq.), this document announces that EPA is planning to submit the following proposed Information Collection Request (ICR) to the Office of Management and Budget (OMB): Reporting and Recordkeeping Activities Associated with EPA's PFC Emission Reduction Partnership for the Semiconductor Industry, EPA ICR No. 1823.02. Before submitting the ICR to OMB for review and approval, EPA is soliciting comments on specific aspects of the proposed information collection as described below.

DATES: Comments must be submitted on or before August 24, 2001.

ADDRESSES: To obtain a free copy of the proposed ICR, contact Scott Bartos, U.S. EPA 1200 Pennsylvania Avenue, NW., (6205J), Washington, DC 20460.

FOR FURTHER INFORMATION CONTACT: Scott Bartos, Program Manager Tel.: (202) 564-9167, Fax: (202) 565-2155, E-mail: bartos.scott@epa.gov.

SUPPLEMENTARY INFORMATION: Affected entities: Entities potentially affected by this action are those which produce semiconductor devices in the United States.

Title: Reporting and Recordkeeping Activities Associated with EPA's PFC Emission Reduction Partnership for the Semiconductor Industry (EPA ICR No. 1823.02).

Abstract: Following the 1993 introduction of the Climate Change Action Plan, U.S. EPA's Office of Atmospheric Programs launched the PFC Emission Reduction Partnership for the Semiconductor Industry. This important voluntary program contributes to the country's overall reduction in greenhouse gas emissions. Like Energy Star Buildings and the Voluntary Aluminum Industrial Partnership, the PFC Emission Reduction Partnership for the Semiconductor Industry is a voluntary effort aimed at preventing pollution before it is generated. These voluntary programs all focus on reducing greenhouse gas emissions and tracking progress by collecting information from partners on a periodic basis. The PFC Emissions Reduction Partnership for the Semiconductor Industry is a voluntary, non-regulatory program that supports the industry's efforts to reduce perfluorocompound (PFC) emissions.

PFCs are the most potent greenhouse gases known with atmospheric lifetimes of up to 50,000 years. These unique chemical compounds are required during two delicate semiconductor manufacturing steps, plasma etching and CVD chamber cleaning. EPA's semiconductor industry partners share information on available cost-effective emission reduction technologies and EPA tracks successful emission reduction efforts. EPA also recognizes companies for their success in reducing PFC emissions through certificates, awards, and assistance in communicating their achievements with the public.

All semiconductor manufacturers operating in the U.S. are invited to join the partnership. Participation in the program begins by completing a Memorandum of Understanding that defines a voluntary agreement between the company and EPA. By joining the partnership, a company agrees to track and report an estimate of its PFC emissions to EPA annually. A designated third party assembles the reported data and protects any confidential or sensitive information prior to EPA review. The partner companies' annual reports will provide an estimate of total PFC emissions and a description of the estimating method. The partnership will track progress as a group using the aggregate annual PFC emissions estimate.

An agency may not conduct or sponsor, and a person is not required to respond to, a collection of information unless it displays a currently valid OMB control number. The OMB control numbers for EPA's regulations are listed in 40 CFR part 9 and 48 CFR chapter 15.

The EPA would like to solicit comments to:

(i) evaluate whether the proposed collection of information is necessary for the proper performance of the functions of the agency, including whether the information will have practical utility;

(ii) evaluate the accuracy of the agency's estimate of the burden of the proposed collection of information, including the validity of the methodology and assumptions used;

(iii) enhance the quality, utility, and clarity of the information to be collected; and

(iv) minimize the burden of the collection of information on those who are to respond, including through the use of appropriate automated electronic, mechanical, or other technological collection techniques or other forms of information technology, e.g., permitting electronic submission of responses.

Burden Statement: In estimating the expected burden, EPA assumes 21 companies will participate in the first year and 2 new companies will join in each of the three years covered by this ICR for a total of 27 in year 3. These values provide an average of 25 partners/year over the 3 years covered by this proposed ICR.

Average annual reporting burden hours=6,277.

Average burden hours/response=251.

Frequency of response=1/year.

Estimated number of respondents=25.

Estimated total annual cost burden=$1,275,143.

Total capital and start-up costs=$0.

Total operation and maintenance costs=$138,502.

Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements; train personnel to be able to respond to a collection of information; search data sources; complete and review the collection of information; and transmit or otherwise disclose the information.

Dated: June 4, 2001.
Jeff Cohen,
Chief, Alternatives and Emissions Reduction Branch.

[FR Doc. 01-15879 Filed 6-22-01; 8:45 am]

BILLING CODE 6560-50-P